DEPARTMENT OF ENERGY

[FE Docket No. 04-121-NG]

Office of Fossil Energy; Cascade Natural Gas Corporation; Order Granting Authority To Import Natural Gas From Canada

AGENCY: Office of Fossil Energy, DOE.

ACTION: Notice of order.

SUMMARY: The Office of Fossil Energy (FE) gives notice that it issued DOE/FE Order No. 2051 granting Cascade Natural Gas Corporation authority to import up to .5 billion cubic feet of natural gas annually from Canada, over a term of five years that began on November 1, 2004. The natural gas will be imported under a Base Contract for Sale and Purchase of Natural Gas with IGI Resources, Inc.

This Order may be found on the FE Web site at http://www.fe.doe.gov (select gas regulation). It is also available for inspection and copying in the Office of Natural Gas Regulatory Activities Docket Room, 3E-033, Forrestal Building, 1000 Independence Avenue, SW., Washington, DC 20585-0334, (202) 586-9478. The Docket Room is open from 8 a.m. to 4:30 p.m., Monday through Friday, except Federal holidays.

Issued in Washington, DC, December 9, 2004.
R.F. Corbin,
Manager, Natural Gas Regulatory Activities, Office of Global Supply and Security, Office of Fossil Energy.

[FR Doc. 04-27866 Filed 12-20-04; 8:45 am]

BILLING CODE 6450-01-P